DEPARTMENT OF TRANSPORTATION

Federal Railroad Administration

[Docket Number FRA-2013-0028]

Petition for Waiver of Compliance

In accordance with Part 211 of Title 49 of the Code of Federal Regulations (CFR), this document provides the public notice that by a document received on March 19, 2013, the North Shore Railroad Company (NSHR) has petitioned the Federal Railroad Administration (FRA) for a waiver of compliance from certain provisions of the Federal railroad safety regulations contained at 49 CFR part 223. FRA assigned the petition Docket Number FRA-2013-0028.

NSHR petitioned FRA to grant a waiver of compliance from the safety glazing provisions of 49 CFR 223.15, Requirements for existing passenger cars. NSHR seeks this relief for a 1954 M500-type coach car, Number ORXX 3247, which is being purchased from a private owner, Ontario Rail (ORRX), from Canada. Once acquired, NSHR intends to use ORXX 3247 in excursion, VIP, and shipper service on tracks owned by the Susquehanna Economic Development Authority-Council of Governments (SEDA-COG) Joint Rail Authority and the Union County Industrial Railroad. The component railroads in SEDA-COG include the Nittany and Bald Eagle Railroad (72 miles), the Lycoming Valley Railroad (34 miles), NSHR (38 miles), and the Shamokin Valley Railroad (25 miles). NSHR intends to operate on two additional lines. The West Shore Railroad Corporation owns approximately 5 miles on the Milton Branch; the Lewisburg and Buffalo Creek Railroad owns approximately 10 miles on the Winfield Branch on the Union County Industrial Railroad. ORXX 3247 will be operated at a maximum timetable track speed authorized by each of the railroads mentioned above, but not to exceed 50 mph.

ORXX 3247 has 24 side windows and no end windows. Nineteen side windows are 27″ × 61″ and five are 27″ × 25″. Each window has dual-pane-style laminated safety glazing (plated outside and laminated inside). None of the windows opens; however, the two emergency exit windows on each end of ORXX 3247 are clearly marked and have hammers mounted on them to break out glazing under emergency conditions. ORXX 3247 is equipped with flashlights, other battery-powered lighting, and an axe.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by July 8, 2013 will be considered by FRA before final action is taken. Comments received after that date will be considered as far as is practicable.

Anyone is able to search the electronic form of any written communications and comments received into any of our dockets by the name of the individual submitting the comment (or signing the document, if submitted on behalf of an association, business, labor union, etc.). See http://www.regulations.gov/#!privacyNotice for the privacy notice of regulations.gov or interested parties may review DOT's complete Privacy Act Statement in the Federal Register published on April 11, 2000 (65 FR 19477).

Issued in Washington, DC, on May 16, 2013.
Robert C. Lauby,
Deputy Associate Administrator for Regulatory and Legislative Operations.

[FR Doc. 2013-12100 Filed 5-21-13; 8:45 am]

BILLING CODE 4910-06-P